SMALL BUSINESS ADMINISTRATION

[License No. 07/07-0122]

Eagle Fund IV-A, L.P.; Notice Seeking Exemption Under the Small Business Investment Act, Conflicts of Interest

Notice is hereby given that Eagle Fund IV-A, L.P., 1 North Brentwood Blvd., Suite 1550, St. Louis, MO 63105, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Eagle Fund IV-A, L.P. is seeking a prior written exemption from SBA for loan and equity financings it made to RHI Acquisition, LLC, 2 Oliver Street, Boston, MA 02109.

The financing is brought within the purview of § 107.730(a)(1) of the Regulations because Eagle Fund III, L.P., and Eagle Fund III-A, L.P., (collectively “Eagle III”) Associates of Eagle Fund IV-A, L.P., own more than ten percent of RHI Acquisition, LLC, and therefore this transaction is considered Financing an Associate requiring prior SBA written exemption. Eagle Fund IV-A, L.P., has not made its investment in RHI Acquisition, LLC and is seeking pre-financing SBA approval.

Notice is hereby given that any interested person may submit written comments on this transaction within fifteen days of the date of this publication to the Associate Administrator, Office of Investment and Innovation, U.S. Small Business Administration, 409 Third Street SW, Washington, DC 20416.

A. Joseph Shepard,
Associate Administrator for Office of Investment and Innovation.

[FR Doc. 2018-26792 Filed 12-10-18; 8:45 am]

BILLING CODE P